DEPARTMENT OF AGRICULTURE

Forest Service

Crupina Integrated Management Project, Okanogan and Wenatchee National Forests, Chalen County, WA

AGENCY: Forest Service, USDA.

ACTION: Revised notice of intent to prepare an environment impact statement.

SUMMARY: On October 17, 2002, the USDA, Forest Service, Okanogan and Wenatchee National Forests, published a Notice of Intent in Federal Register (67 FR 64082) to prepare an environmental impact statement (EIS) for Crupina Vegetation Management. A revised Notice of Intent was published in the Federal Register on April 15, 2003 (68 FR 19184) changing the name of the project to “Crupina Integrated Management Project” and notifying the public that filing of the draft and final environmental impact statements had been delayed. The Notice of Intent is again being revised to change the Responsible Official for the EIS. The original Notice of Intent identified the Responsible Official as the Regional Forester for the Pacific Northwest Region, USDA Forest Service. On July 11, 2003, the Regional Forester delegated the responsibility for preparing the EIS to the Acting Forest Supervisor for the Okanogan and Wenatchee National Forests.

FOR FURTHER INFORMATION CONTACT: Jim Archambeault, Crupina Project Team Leader, Okanogan-Wenatchee National Forest, Forest Service, (509) 997-9738 or Mallory Lenz, Wildlife Biologist, Chelan Ranger District (509) 682-2576.

Dated: July 23, 2003.
Darrel Kenops,
Acting Forest Supervisor.

[FR Doc. 03-19839 Filed 8-4-03; 8:45 am]

BILLING CODE 3410-11-M